SECURITIES AND EXCHANGE COMMISSION

[SEC File No. 270-418, OMB Control No. 3235-0485]

Submission for OMB Review; Comment Request; Extension: Rule 15c2-1

Upon Written Request, Copies Available From: Securities and Exchange Commission, Office of FOIA Services, 100 F Street NE, Washington, DC 20549-2736

Notice is hereby given that pursuant to the Paperwork Reduction Act of 1995 (“PRA”) (44 U.S.C. 3501 et seq.), the Securities and Exchange Commission (“Commission”) has submitted to the Office of Management and Budget (“OMB”) a request for approval of extension of the previously approved collection of information provided for in Rule 15c2-1, (17 CFR 240.15c2-1), under the Securities Exchange Act of 1934 (15 U.S.C. 78a et seq.).

Rule 15c2-1 prohibits broker-dealers from commingling under the same lien securities of their margin customers with securities of the broker-dealer and those of other customers without their written consent. The rule also prohibits the re-hypothecation of customers' margin securities for a sum in excess of the customer's aggregate indebtedness. Respondents must collect information necessary to prevent the re-hypothecation of customer securities, issue and retain copies of notices of hypothecation of customer securities, and collect written consents from customers.

There are approximately 59 respondents. Each of these respondents makes an estimated 45 responses per year and each response takes approximately 0.5 hours to complete, resulting in an industry-wide annual burden of approximately 1,327 hours.

The retention period for the recordkeeping requirement under Rule 15c2-1 is not less than two years following the date the notice is submitted. The recordkeeping requirement under this rule is mandatory to assist the Commission in monitoring respondents who fail to collect the information required under the rule. This rule does not involve the collection of confidential information.

An agency may not conduct or sponsor, and a person is not required to respond to, a collection of information under the PRA unless it displays a currently valid OMB control number.

The public may view background documentation for this information collection at the following website: www.reginfo.gov. Find this particular information collection by selecting “Currently under 30-day Review—Open for Public Comments” or by using the search function. Written comments and recommendations for the proposed information collection should be sent by January 22, 2024 to

(i) www.reginfo.gov/public/do/PRAMain and (ii) David Bottom, Director/Chief Information Officer, Securities and Exchange Commission, c/o John Pezzullo, 100 F Street NE, Washington, DC 20549, or by sending an email to: PRA_Mailbox@sec.gov.

Dated: December 18, 2023.
Sherry R. Haywood,
Assistant Secretary.

[FR Doc. 2023-28114 Filed 12-20-23; 8:45 am]

BILLING CODE 8011-01-P